DEPARTMENT OF ENERGY

Federal Energy Regulatory Commission

[Docket No. RP01-433-000]

Summit Power NW, LLC, Complainant, v. Portland General Electric Company, Respondent; Notice of Complaint

May 31, 2001.

Take notice that on May 29, 2001, Summit Power NW LLC filed a Complaint Requesting Fast Track Processing, under Section 205 of the Natural Gas Act (15 U.S.C. 717d) and Rule 206 of the Commission's Rules of Practice and Procedure (18 CFR 385.206), requesting that the Commission issue an order (1) finding that Summit is entitled to interconnect with the Kelso-Beaver Pipeline (K-B Pipeline); (2) requiring PGE to file for its Part 284 open access blanket transportation certificate and respond to Summit's request for firm capacity no later than June 15, 2001; (3) determining that available capacity to serve Summit's proposed power project exists on K-B Pipeline; and (4) requiring PGE to immediately consider Summit's request for transportation service in PGE's plans for expansion of the available capacity on the K-B Pipeline.

Any person desiring to be heard or to protest this filing should file a motion to intervene or protest with the Federal Energy Regulatory Commission, 888 first Street, NE., Washington, DC 20426, in accordance with Rules 211 and 214 of the Commission's Rules of Practice and Procedure (18 CFR 385.211 and 385.214). All such motions or protests must be filed on or before June 8, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before June 8, 2001.

Comments, protests and interventions may be filed electronically via the internet in lieu of paper. See, 18 CFR 385.2001(a)(1)(iii) and the instructions on the Commission's web site at http://www.ferc.fed.us/efi/doorbell.htm.

David P. Boergers,
Secretary.

[FR Doc. 01-14198 Filed 6-5-01; 8:45 am]

BILLING CODE 6717-01-M